DEPARTMENT OF TRANSPORTATION

Federal Railroad Administration

[Docket No. FRA 2016-0002-N-21]

Agency Request for Regular Processing of Collection of Information by the Office of Management and Budget

AGENCY: Federal Railroad Administration (FRA), U.S. Department of Transportation.

ACTION: Notice.

SUMMARY: Consistent with the Paperwork Reduction Act of 1995 (PRA) and its implementing regulations, this document provides notice that FRA is submitting an Information Collection Request (ICR) to the Office of Management and Budget (OMB) to collect information on railroads' implementation of Positive Train Control (PTC) systems on an annual form entitled the Annual PTC Progress Report Form (Form FRA F 6180.166).

FOR FURTHER INFORMATION CONTACT: Mr. Robert Brogan, Office of Railroad Safety, Regulatory Analysis Division, RRS-21, Federal Railroad Administration, 1200 New Jersey Avenue SE., Mail Stop 25, Washington, DC 20590 (telephone: (202) 493-6292) or Ms. Kim Toone, Office of Information Technology, RAD-20, Federal Railroad Administration, 1200 New Jersey Avenue SE., Mail Stop 35, Washington, DC 20590 (telephone: (202) 493-6132). (These telephone numbers are not toll free.) Comments or questions about any aspect of this ICR should be directed to OMB's Office of Information and Regulatory Affairs, Attn: FRA OMB Desk Officer.

SUPPLEMENTARY INFORMATION:

I. Public Participation

On June 23, 2016, FRA published a notice in the Federal Register seeking public comment on the revised Annual PTC Progress Report Form. 81 FR 40938 (June 23, 2016). The PRA and its implementing regulations require Federal agencies to provide 60-days' notice to the public for comment on information collection activities before seeking approval for reinstatement or renewal by OMB. See 44 U.S.C. 3506(c)(2)(A); 5 CFR 1320.8(d)(1), 1320.10(e)(1), 1320.12(a). The comment period closed on August 22, 2016. FRA did not receive any written comments responsive to its June 23, 2016, notice and request for comments. FRA requests regular processing and OMB authorization to collect the information on the new Annual PTC Progress Report Form (Form FRA F 6180.166), as identified below, 30 days after publication of this notice for a period of 3 years.

II. Background on the Annual PTC Reporting Requirement

Under the Positive Train Control Enforcement and Implementation Act of 2015 (PTCEI Act), each railroad subject to 49 U.S.C. 20157(a) must submit an annual progress report to FRA by March 31, 2016, and annually thereafter, until PTC implementation is completed. 49 U.S.C. 20157(c)(1). The PTCEI Act specifically requires each railroad to provide certain information in the annual reports regarding its progress toward implementing a PTC system, including “any other information” FRA requests. See id. In addition, 49 U.S.C. 20157(c)(2) requires FRA to conduct compliance reviews at least annually to ensure that each railroad is complying with its revised PTC Implementation Plan (PTCIP). The PTCEI Act requires railroads to provide information to FRA that FRA determines is necessary to adequately conduct such compliance reviews. See 49 U.S.C. 20157(c)(2).

On March 16, 2016, OMB approved FRA's Annual PTC Progress Report Form (Form FRA F 6180.166) for a period of 180 days under its emergency processing procedures. However, based on industry's oral and written comments on the Quarterly PTC Progress Report Form (Form FRA F 6180.165, OMB Control No. 2130-0553; OMB Approval Expires June 30, 2017), FRA revised the Annual PTC Progress Report Form to be as consistent with the quarterly report form as possible (where the questions overlap), enabling railroads to transfer information from the quarterly report forms to the annual report forms more easily. In summary, on April 12, 2016, the Association of American Railroads (AAR) submitted comments to FRA on behalf of itself and its member railroads, and the American Public Transit Association (APTA) submitted comments to FRA on behalf of the Northeast Illinois Regional Commuter Railroad (Metra), the Utah Transit Authority, the Tri-County Metropolitan Transportation District of Oregon, and the Fort Worth Transportation Authority.

On April 19, 2016, FRA held a meeting on the proposed Quarterly PTC Progress Report Form to offer the affected regulated entities a forum to provide additional comments and feedback to FRA. Representatives from, and members of, AAR, APTA, the American Short Line and Regional Railroad Association, and several individual railroad representatives attended the meeting and provided feedback. FRA published minutes from the meeting on www.regulations.gov under Docket No. FRA-2016-0002. For a detailed summary of the oral and written comments and FRA's responses to the comments, please see 81 FR 28140 (May 9, 2016).

The current Annual PTC Progress Report Form, as approved through September 30, 2016, can be accessed and downloaded in FRA's eLibrary at: https://www.fra.dot.gov/eLib/details/L17366. To view the revised Annual PTC Progress Report Form, please see the form attached to FRA's June 23, 2016, Federal Register notice. 81 FR 40938, 40940-40953. FRA is submitting the June 23rd version of the annual form, but with minor spacing modifications, to OMB today for review and regular processing.

III. Overview of Information Collection

The associated collection of information is summarized below.

Title: Annual Positive Train Control Progress Report Form.

OMB Control Number: 2130-0553.

Form Number(s): FRA F 6180.166.

Affected Public: Businesses.

Frequency of Submission: One-time; on occasion.

Respondent Universe: 41 railroad carriers.

Reporting burden:

Annual PTC progress report | Respondent universe | Total annual responses | Average time per response | Total annual burden hours
Form FRA F 6180.166 | 41 railroads | 41 reports/forms | 38.41 hours | 1,575

FRA notes that the 38.41-hour estimate is an average for all railroads. FRA estimated the annual reporting burden is 60 hours for Class I and large passenger railroads, 40 hours for Class II and medium passenger railroads, and 25 hours for Class III, terminal, and small passenger railroads.

Total Estimated Annual Responses for Form FRA F 6180.166: 41.

Total Estimated Annual Burden for Form FRA F 6180.166: 1,575 hours.

Total Estimated Annual Responses for Entire Information Collection: 147,776.

Total Estimated Annual Burden for Entire Information Collection: 3,126,039.

Status: Regular Review.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Issued in Washington, DC, on September 20, 2016.
Patrick T. Warren,
Acting Executive Director.

[FR Doc. 2016-22943 Filed 9-22-16; 8:45 am]

BILLING CODE 4910-06-P